DEPARTMENT OF TRANSPORTATION

Surface Transportation Board

[STB Finance Docket No. 33946]

State of Texas Acting by and Through the Texas Department of Transportation—Acquisition and Operation Exemption—South Orient Railroad Company, Ltd.

The State of Texas acting by and through the Texas Department of Transportation (TxDOT), a noncarrier, has filed a notice of exemption under 49 CFR 1150.31 to acquire from South Orient Railroad Company, Ltd. (SORC) and to operate approximately 370.5 miles of rail line in Brewster, Coleman, Crane, Crockett, Irion, Pecos, Presidio, Reagan, Runnels, Tom Green and Upton Counties, TX. TxDOT would acquire from SORC the right to operate ¹ between milepost 1029.1 on the International Bridge near Presidio, TX, and milepost 956.7, at Paisano Junction, and between milepost 945.3, at Alpine, TX, and milepost 0+330 feet, near San Angelo Junction on the east, and Lampasas Subdivision milepost 373+4362 feet, near San Angelo Junction on the west. TxDOT already owns the underlying right-of-way and it would acquire ownership of the track and track materials from the South Orient Rural Rail Transportation District.² In connection with its operation of these lines, Pacifico would also acquire the right to operate, by assignment of SORC's trackage rights, over a line of the Union Pacific Railroad Company extending between milepost 956.7 at Paisano Junction and milepost 945.3, at Alpine Junction. The operations by Pacifico would thus extend over approximately 381.9 miles. TxDOT states that it will retain the residual common carrier obligation with respect to the lines it owns. TxDOT states that its projected revenues as a result of this transaction will not exceed those of a Class III rail carrier.³

¹ TxDOT states that it is in the final stages of negotiating a lease and operating agreement with Texas Pacifico Transportation, Ltd. (Pacifico), whereby Pacifico will conduct freight operations over the above-described rail lines.

² See South Orient Railroad Company, Ltd.—Acquisition and Operation Exemption—Line of the Atchison, Topeka and Santa Fe Railway Company, Finance Docket No. 31971 (ICC served Sept. 3, 1992).

³ On February 18, 2000, Pacifico filed a verified notice of exemption to acquire and operate the above-described rail line from SORC. See Texas Pacifico Transportation, Ltd.—Acquisition and Operation Exemption—South Orient Railroad Company, Ltd., STB Finance Docket No. 33851 (STB served Mar. 3, 2000). It appears that the transaction was never consummated and that the acquisitions and operations described in the present notice would substitute for those anticipated by the filing in STB Finance Docket No. 33851.

The transaction was expected to be consummated on or after October 17, 2000.

If the notice contains false or misleading information, the exemption is void ab initio. Petitions to revoke the exemption under 49 U.S.C. 10502(d) may be filed at any time. The filing of a petition to revoke will not automatically stay the transaction.

An original and 10 copies of all pleadings, referring to STB Finance Docket No. 33946, must be filed with the Surface Transportation Board, Office of the Secretary, Case Control Unit, 1925 K Street, NW., Washington, DC 20423-0001. In addition, a copy of each pleading must be served on Richard H. Streeter, Barnes & Thornburg, 1401 Eye Street, NW., Suite 500, Washington, DC 20005.

Board decisions and notices are available on our website at “WWW.STB.DOT.GOV.”

Decided: October 25, 2000.
By the Board, David M. Konschnik, Director, Office of Proceedings.
Vernon A. Williams,
Secretary.

[FR Doc. 00-27954 Filed 11-01-00; 8:45 am]

BILLING CODE 4915-00-P